EXPORT-IMPORT BANK OF THE UNITED STATES

[Public Notice EIB-2022-0003]

Application for Final Commitment for a Long-Term Loan or Financial Guarantee in Excess of $100 million: AP089450XX

AGENCY: Export-Import Bank of the United States.

ACTION: Notice.

SUMMARY: This Notice is to inform the public, that the Export-Import Bank of the United States (“EXIM”) has received an application for final commitment for a long-term loan or financial guarantee in excess of $100 million. Comments received within the comment period specified below will be presented to the EXIM Board of Directors prior to final action on this Transaction.

Reference: AP089450XX Purpose and Use:

Brief description of the purpose of the transaction: to support the export of U.S.-manufactured jet engines and related components to Brazil.

Brief non-proprietary description of the anticipated use of the items being exported: to be used for manufacture and assembly of commercial and executive jet aircraft.

To the extent that EXIM is reasonably aware, the item(s) being exported are not expected to produce exports or provide services in competition with the exportation of goods or provision of services by a United States industry.

Parties:

Principal Supplier: GE Aviation, Inc., Cincinnati, Ohio; Honeywell, Charlotte NC, Pratt & Whitney Engine Services, Inc., East Hartford Connecticut.

Obligor: Embraer Netherlands Finance B.V., Schiphol, Netherland.

Guarantor(s): Embraer S.A., Sao Paulo, Brazil.

Description of Items Being Exported: jet engines and related components.

Information on Decision: Information on the final decision for this transaction will be available in the “Summary Minutes of Meetings of Board of Directors” on http://exim.gov/newsandevents/boardmeetings/board/.

Confidential Information: Please note that this notice does not include confidential or proprietary business information; information which, if disclosed, would violate the Trade Secrets Act; or information which would jeopardize jobs in the United States by supplying information that competitors could use to compete with companies in the United States.

DATES: Comments must be received on or before June 21, 2022 to be assured of consideration before final consideration of the transaction by the Board of Directors of EXIM.

ADDRESSES: Comments may be submitted through Regulations.gov at WWW.REGULATIONS.GOV. To submit a comment, enter EIB-2022-0003 under the heading “Enter Keyword or ID” and select Search. Follow the instructions provided at the Submit a Comment screen. Please include your name, company name (if any) and EIB-2022-0003 on any attached document.

Joyce B. Stone,
Assistant Corporate Secretary.

[FR Doc. 2022-11210 Filed 5-24-22; 8:45 am]

BILLING CODE 6690-01-P